ENVIRONMENTAL PROTECTION AGENCY

40 CFR Parts 60 and 61

[FRL-8013-3]

Delegation of New Source Performance Standards and National Emission Standards for Hazardous Air Pollutants for the States of Arizona, California, Hawaii, and Nevada

AGENCY: Environmental Protection Agency (EPA).

ACTION: Proposed rule.

SUMMARY: EPA is proposing to approve updates for delegation of certain federal standards to state and local agencies in Region IX for delegation of New Source Performance Standards (NSPS), and National Emission Standards for Hazardous Air Pollutants (NESHAPs). This document is addressing general authorities mentioned in the regulations for NSPS and NESHAPs, proposing to update the delegations tables and clarifying those authorities that are retained by EPA.

DATES: Any comments on this proposal must arrive by February 16, 2006.

ADDRESSES: Send comments to Andy Steckel, Rulemaking Office Chief (AIR-4), U.S. Environmental Protection Agency, Region IX, 75 Hawthorne Street, San Francisco, CA 94105-3901, or e-mail to steckel.andrew@epa.gov, or submit comments at http://www.regulation.gov.

Please contact Cynthia G. Allen at (415) 947-4120 to arrange a time if inspection of the supporting information is desired.

FOR FURTHER INFORMATION CONTACT: Cynthia G. Allen at (415) 947-4120, U.S. Environmental Protection Agency, Region IX, Rulemaking Office (Air-4), 75 Hawthorne Street, San Francisco, CA 94105.

SUPPLEMENTARY INFORMATION: This proposal updates the delegation tables in 40 CFR parts 60 and 61, to allow easier access by the public to the status of local jurisdictions. In the Rules and Regulations section of this Federal Register, we are updating these delegations tables in a direct final action without prior proposal because we believe these delegations are not controversial. If we receive adverse comments, however, we will publish a timely withdrawal of the direct final rule and address the comments in subsequent action based on this proposed rule.

We do not plan to open a second comment period, so anyone interested in commenting should do so at this time. If we do not receive adverse comments, no further activity is planned. For further information, please see the direct final action.

Dated: November 21, 2005.
Kerry Drake,
Acting Director, Air Division Region IX.

[FR Doc. 06-381 Filed 1-13-06; 8:45 am]

BILLING CODE 6560-50-U